FEDERAL HOUSING FINANCE BOARD

Sunshine Act Meeting

Announcing an Open Meeting of the Board

Time and Date: 10 A.M., Wednesday, April 12, 2000.

Place: Board Room, Second Floor, Federal Housing Finance Board, 1777 F Street, NW, Washington, DC 20006.

Status: The entire meeting will be open to the public.

Matters to be Considered During Portions Open to the Public: Proposed Rule: Authorization to Acquire Member Assets and Definition of Core Mission Activities.

Contact Person for more Information: Elaine L. Baker, Secretary to the Board, (202) 408-2837.

William W. Ginsberg,
Managing Director.

[FR Doc. 00-8885 Filed 4-6-00; 10:28 am]

BILLING CODE 6725-01-P